DEPARTMENT OF ENERGY

Federal Energy Regulatory Commission

[Docket No. EG04-46-000, et al.]

Great Bay Hydro Corporation, et al.; Electric Rate and Corporate Filings

June 7, 2004.

The following filings have been made with the Commission. The filings are listed in ascending order within each docket classification.

1. Great Bay Hydro Corporation

[Docket No. EG04-46-000]

Take notice that on May 14, 2004, Great Bay Hydro Corporation (Great Bay Hydro) submitted an amendment to its March 30, 2004, application for determination of exempt wholesale generator status pursuant to part 365 of the Commission's regulations and section 32 of the Public Utility Holding Company Act of 1935.

Comment Date: June 21, 2004.

2. The Detroit Edison Company

[Docket No. EL04-31-003]

Take notice that on June 1, 2004, The Detroit Edison Company (Detroit Edison) tendered for filing in compliance with the Commission's March 5, 2004, Order in Docket No. EL04-31-000 the net effect on imbalance payments as a result of the recalculation of the decremental prices for the period of January 1, 2002, through December 1, 2002.

Comment Date: June 22, 2004.

3. Westar Generating, Inc.

[Docket No. ER01-1305-009]

Take notice that on May 28, 2004, Westar Generating, Inc. (Westar) submitted an informational filing as required by Article IV, Informational Filings, of the Settlement Agreement in Docket No. ER01-1305-000.

Westar states that a copy of this filing was served upon the Kansas Corporation Commission.

Comment Date: June 18, 2004.

4. New York Independent System Operator, Inc.

[Docket No. ER01-3001-010]

Take notice that on June 1, 2004, the New York Independent System Operator, Inc. (NYISO) submitted a report which addresses, as of June 1, 2004; (1) the NYISO's existing demand response programs, the status of real-time demand response mechanisms, and the effects of demand response programs on wholesale prices; and (2) the status of new generation resources in the New York Control area.

NYISO states that it has served a copy of this filing to all parties on the official service list in this proceeding, including the New York State Public Service Commission, and to the electric utility regulatory agencies in New Jersey and Pennsylvania.

Comment Date: June 22, 2004.

5. International Transmission Company

[Docket No. ER03-343-005]

Take notice that on May 28, 2004, International Transmission Company (International Transmission), submitted a revised tariff sheets in compliance with the Commission's order issued April 29, 2004, in Docket No. AC03-33-000.

International Transmission states that it has served a copy of this filing upon its customers and the Michigan Public Service Commission.

Comment Date: June 18, 2004.

6. Commonwealth Edison

[Docket Nos. ER03-654-001, ER03-655-001, ER03-656-001, ER04-736-001, ER04-737-001]

Take notice that on May 28, 2004, Commonwealth Edison, (ComEd) submitted a response to a Commission deficiency letter issued May 13, 2004, in Docket Nos. ER03-654-000, ER03-655-000, ER03-656-000, ER04-736-000 and ER04-737-000. ComEd requests withdrawal of the unexecuted service agreements filed April 14, 2004, in Docket Nos. ER04-736-000 and ER04-737-000. ComEd also requests withdrawal of the interconnection agreements filed March 25, 2003, in Docket Nos. ER03-654-000, ER03-655-000, ER03-656-000.

ComEd states that copies of the filing were served on all parties in the official service lists in the above captioned proceedings as well as the Illinois Commerce Commission.

Comment Date: June 18, 2004.

7. Duquesne Power, L.P., Duquesne Light Co., Monmouth Energy, Inc., Metro Energy, L.L.C., NM Colton Valley Genco, L.L.C, NM Mid-Valley Genco, L.L.C., NM Milliken Genco, L.L.C.

[Docket Nos. ER04-268-001, ER98-4159-004, ER99-1293-003, ER01-2317-003, ER03-320-005, ER03-321-005, and ER03-322-005]

Take notice that on June 2, 2004, Duquesne Power, L.P. (Duquesne Power), Duquesne Light Company (DLC), Monmouth Energy, Inc. Metro Energy, L.L.C. (collectively Applicants) submits for filing a revised generation market power analysis in support of Duquesne Power's request for blanket authorization to sell power at market-based rates and the notice of change in status relating to Applicants other than Duquesne Power. Applicants request that the Commission act on their request within 60 days to facilitate an August 2004 closing of Duquesne Power's acquisition of the Sunbury generating station.

Comment Date: June 23, 2004.

8. Florida Power & Light Company

[Docket No. ER04-520-003]

Take notice that on June 2, 2004, Florida Power & Light Company (FPL) submitted a compliance filing pursuant to the Commission's order issued May 21, 2004, in Docket No. ER04-520-002, 107 FERC ¶ 61,176 (2004).

FPL states that a copy of this filing has been served on Seminole Electric Cooperative, Inc. and Lee County Electric Cooperative, Inc.

Comment Date: June 23, 2004.

9. BP West Coast Products LLC

[Docket No. ER04-611-002]

Take notice that on June 1, 2004, BP West Coast Products LLC submitted for filing a complete Second Revised Volume No. 1 of the Market Based Rate Power Sales Tariff, including a final revision of Paragraph 4 filed May 24, 2004, in Docket No. ER04-611-001.

Comment Date: June 24, 2004.

10. California Independent System Operator Corporation

[Docket No. ER04-885-000]

On May 26, 2004, the California Independent System Operator Corporation (ISO) tendered for filing Amendment No. 2 to the Interconnected Control Area Operating Agreement (ICAOA) between the ISO and Nevada Power Company (NEVP). The ISO requests that the agreement be made effective as of May 14, 2004.

ISO states that the non-privileged elements of this filing have been served on NEVP, the California Public Utilities Commission, and all entities on the official service lists for the original ICAOA in Docket No. ER00-2292-000 and Amendment No. 1 to the ICAOA in Docket No. ER01-1995-000.

Comment Date: June 16, 2004.

11. Cleco Power LLC

[Docket No. ER04-906-000]

Take notice that on June 3, 2004, Cleco Power LLC (Cleco) submitted a filing restating its existing open access transmission tariff and incorporating as part of that tariff the large generator interconnection procedures and pro forma large generator interconnection agreement required by the Commission's Order No. 2003-A. Cleco requests an effective date of June 4, 2004.

Cleco states that a copy of this filing was served electronically on Cleco's transmission customers and on the Louisiana Public Service Commission.

Comment Date: June 24, 2004.

12. Ohio Valley Electric Corporation

[Docket No. ER04-908-000]

Take notice that on June 4, 2004, Ohio Valley Electric Corporation (OVEC) tendered for filing Modification No. 15, to the Inter-Company Power Agreement among OVEC and certain other companies named within that agreement as Sponsoring Companies (the Inter-Company Power Agreement). OVEC has requested that the changes to the Inter-Company Power Agreement become effective as of April 30, 2004.

OVEC states that copies of the filing were served upon Allegheny Energy Supply Company, LLC, Appalachian Power Company, the Cincinnati Gas & Electric Company, Columbus Southern Power Company, the Dayton Power and Light Company, FirstEnergy Generation Corp., Indiana Michigan Power Company, Kentucky Utilities Company, Louisville Gas and Electric Company, Monongahela Power Company, Ohio Power Company, Southern Indiana Gas and Electric Company, the Utility Regulatory Commission of Indiana, the Public Service Commission of Kentucky, the Public Service Commission of Maryland, the Public Service Commission of Michigan, the Public Utilities Commission of Ohio, the Public Utility Commission of Pennsylvania, Tennessee Regulatory Authority, the State Corporation Commission of Virginia and the Public Service Commission of West Virginia.

Comment Date: June 25, 2004.

13. Nevada Power Company

[Docket No. ER04-909-000]

Take notice that on June 4, 2004, Nevada Power Company (Nevada Power) tendered for filing, an executed Service Agreement for Network Integration Transmission Service Retail Access Transmission Service (Transmission Service Agreement) between Nevada Power Company; Public Service Company of New Mexico, Scheduling Coordinator; the Colorado River Commission of Nevada, Aggregator for End Use Customer; and the Southern Nevada Water Authority, End-Use Customer and an executed Network Operating Agreement between Nevada Power Company and Public Service Company of New Mexico. Nevada Power requests an effective date for service be the service commencement date of July 1, 2004.

Comment Date: June 25, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Linda Mitry,
Acting Secretary.

[FR Doc. E4-1375 Filed 6-17-04; 8:45 am]

BILLING CODE 6717-01-P